DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 02-047. Applicant: National Institutes of Health, NIAMS/LSBR, 50 South Drive, Building 50, Room 1517, Bethesda, MD 20892-8025. Instrument: Electron Microscope, Model Tecnai 12 TWIN. Manufacturer: FEI Company, The Netherlands. Intended Use: The instrument is intended to be used to study retroviruses such as HIV (human immunodeficiency virus—the AIDS pathogen) and herpesviruses, such as herpes simplex type 1. By comparing tomograms of different individual particles, their variability in populations and their conserved features will be systemically characterized. Also, the instrument will be used to characterize the infection process whereby these viruses recognize, attach to, and enter susceptible cells. The viruses will be allowed to infect cultured cells, which will then be embedded, sectioned and visualized by tomography. Application accepted by Commissioner of Customs: November 19, 2002.

Docket Number: 02-048. Applicant: National Institutes of Health, National Institute of Mental Health, Division of Intramural Research, Molecular Imaging Branch, PET Radiopharmaceutical Sciences Section, 10 Center Drive, Building 10, Room B3C346A, Bethesda, MD 20892-0135. Instrument: (2) each Multi-Tasking Radiosynthesis Devices with Accessories. Manufacturer: Synthia Lab System Sweden AB, Sweden. Intended Use: The instruments are intended to be used in a radiochemistry laboratory for the synthesis of radiolabeled drugs, which will be evaluated as probes of the chemistry of the living human and nonhuman primate brain. The synthesis involves use of high levels of radioactivity (up to 1,000 mCi), with gamma emission of high energy and high penetration. The instruments will operate the chemical synthesis devices without direct human contact and will, therefore, decrease radiation exposure to the workers. Application accepted by Commissioner of Customs: November 22, 2002.

Docket Number: 02-049. Applicant: Howard Hughes Medical Institute, Center for Neural Science, New York University, 4 Washington Place, Room 809, New York, NY 10003. Instrument: Multisync Clinton Monoray monitor and FE-1 Goggles. Manufacturer: Cambridge Research Systems Ltd., United Kingdom. Intended Use: The instruments are intended to be used to study stereoscopic vision in non-human primates. Behavioral measurements will be made of the animals' ability to achieve stereoscopic depth perception. The animals will be trained to indicate stimulus quality based on their binocular visual status. The studies are designed to define the degree of binocular function that is required for stereoscopic vision. The information will be important in future management of visual disorders in humans. Application accepted by Commissioner of Customs: November 26, 2002.

Gerald A. Zerdy,
Program Manager, Statutory Import Programs Staff.

[FR Doc. 02-31974 Filed 12-18-02; 8:45 am]

BILLING CODE 3510-DS-P